ENVIRONMENTAL PROTECTION AGENCY

[EPA-HQ-OECA-2013-0335; FRL-9902-69-OEI]

Information Collection Request Submitted to OMB for Review and Approval; Comment Request; NESHAP for Aerospace Manufacturing and Rework Facilities (Renewal)

AGENCY: Environmental Protection Agency (EPA).

ACTION: Notice.

SUMMARY: The Environmental Protection Agency has submitted an information collection request (ICR), “NESHAP for Aerospace Manufacturing and Rework Facilities (40 CFR Part 63, Subpart GG) (Renewal)” (EPA ICR No. 1687.09, OMB Control No. 2060-0314) to the Office of Management and Budget (OMB) for review and approval in accordance with the Paperwork Reduction Act (44 U.S.C. 3501 et seq). This is a proposed extension of the ICR, which is currently approved through December 31, 2013. Public comments were previously requested via the Federal Register (78 FR 33409), on June 4, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before December 13, 2013.

ADDRESSES: Submit your comments, referencing Docket ID Number EPA-HQ-OECA-2013-0335, to: (1) EPA online using www.regulations.gov (our preferred method), by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit: http://www.epa.gov/dockets.

Abstract: Respondents are owners or operators of aerospace manufacturing and rework operations. Respondents must submit one-time reports of initial performance tests and semiannual reports of noncompliance. Record keeping and parameters related to air pollution control technologies is required. The reports and records will be used to demonstrate compliance with the standards.

Form Numbers: None.

Respondents/affected entities: Aerospace manufacturing and rework facilities.

Respondent's obligation to respond: Mandatory (40 CFR part 63, subpart GG).

Estimated number of respondents: 136 (total).

Frequency of response: Initially, semiannually, and occasionally.

Total estimated burden: 140,936 hours (per year). “Burden” is defined at 5 CFR 1320.3(b).

Total estimated cost: $13,921,987 (per year), includes $136,000 annualized capital or operation & maintenance costs.

Changes in the Estimates: There is an adjustment decrease in respondent burden hours and an increase in Agency hours in this ICR compared to the previous ICR; however, this is not due to any program changes. The changes are a result of several corrections; specifically, this ICR: (1) Corrects discrepancies in the number of compliance status reports and SSM reports between the respondent and the Agency burden tables; (2) corrects rounding errors in respondent burden Table 1b in the previous ICR; and (3) changes the frequency of reviewing semiannual reports from one to two for the Agency. This ICR also uses updated labor rates in calculating all costs, which results in an overall increase in burden costs.

Furthermore, this ICR corrects the number of responses to be consistent with the burden calculations. This results in an adjustment increase in the total number of responses.

John Moses,
Director, Collection Strategies Division.

[FR Doc. 2013-27056 Filed 11-12-13; 8:45 am]

BILLING CODE 6560-50-P